DEPARTMENT OF HEALTH AND HUMAN SERVICES

Centers for Disease Control and Prevention

Disease, Disability, and Injury Prevention and Control; Special Emphasis Panel (SEP): Fetal Alcohol Syndrome Prevention and Surveillance in South Africa-Developing Community-Level Strategies that Work, Request for Applications (RFA) DD05-011

In accordance with Section 10(a)(2) of the Federal Advisory Committee Act (Pub. L. 92-463), the Centers for Disease Control and Prevention (CDC) announces the following meeting:

Name: Disease, Disability, and Injury Prevention and Control Special Emphasis Panel (SEP): Fetal Alcohol Syndrome Prevention and Surveillance in South Africa-Developing Community-Level Strategies that Work, RFA DD05-011.

Times and Dates: 1 p.m.-1:35 p.m., January 11, 2005 (Open), 1:50 p.m.-4:30 p.m., January 11, 2005 (Closed).

Place: Teleconference Number: USA Toll Free 888-769-8515 Passcode 42438.

Status: Portions of the meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to: Fetal Alcohol Syndrome Prevention and Surveillance in South Africa-Developing Community-Level Strategies that Work, Request for Applications (RFA) DD05-011.

Contact Person for More Information: JoAnn Thierry, PhD., M.S.W., Scientific Review Administrator, Centers for Disease Control and Prevention, National Center on Birth Defects and Developmental Disabilities, 1600 Clifton Road NE., Mailstop E88, Atlanta, GA 30333, Telephone (404) 498-3022.

The Director, Management Analysis and Services Office, has been delegated the authority to sign Federal Register notices pertaining to announcements of meetings and other committee management activities, for both CDC and the Agency for Toxic Substances and Disease Registry.

Dated: December 16, 2004.
Alvin Hall,
Director, Management Analysis and Services Office, Centers for Disease Control and Prevention (CDC).

[FR Doc. 04-27953 Filed 12-21-04; 8:45 am]

BILLING CODE 4163-18-P